FEDERAL MARITIME COMMISSION

Ocean Transportation Intermediary License Applicants

Notice is hereby given that the following applicants have filed with the Federal Maritime Commission an application for license as a Non—Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Fil-Am Cargo, 631 Giguere Ct. A-5, San Jose, CA 95133. Officers: Loreto H. Garcia, Partner (Qualifying Individual), John L. Lucas, Partner.

APA Logistics LLC, 545 Dowd Avenue, Elizabeth, NJ 07201. Officers: Thomas Downs, President (Qualifying Individual), Joseph Cotogno, Vice President.

Non-Vessel—Operating Common Carrier Ocean Transportation Intermediary Applicants

Global Tech Investments, L.L.C. dba Global, Freight Forwarding, 25320 137th Avenue SE., Kent, WA 98042. Officers: Don Hou (Yufei Hou), Freight Manager (Qualifying Individual), Zhenhai Li, CEO.

OCT Corporation dba OCT Marine dba OCT Global, Logistics, 11250 NW., 25th Street, Suite 114, Miami, FL 33122. Officer: Christian M. Ollino, President (Qualifying Individual).

Ocean Freight Forwarder—Ocean Transportation Intermediary Applicants

Marina Flores U.S. Customs Broker, 49 SE., Street, #893 Reparto Metroplitano, San Juan, PR 00921, Rosa Marina Flores, Sole Proprietor.

PEMA Logistics, Inc., 11040 S.W. 120 Street, Miami, FL 33176. Officers: Pedro A. Abascal, President (Qualifying Individual), Mabel D. Abascal, Secretary.

Express Northwest International Freight Services Inc., 18335 8th Avenue South, Seattle, WA 98148. Officers: Tory J. Plaidance, Ocean Export Manager (Qualifying Individual), Kathy Mclean, President.

Dated: June 2, 2006.
Bryant L. VanBrakle,
Secretary.

[FR Doc. E6-8837 Filed 6-6-06; 8:45 am]

BILLING CODE 6730-01-P